DEPARTMENT OF DEFENSE

GENERAL SERVICES ADMINISTRATION

NATIONAL AERONAUTICS AND SPACE ADMINISTRATION

[Notice 2011; Docket No. 2011-0091; Sequence 1]

Review of Regulatory Coverage Regarding Prevention of Personal Conflicts of Interest for Contractor Employees (FAR PCI COMMENT)

AGENCY: Department of Defense (DOD), General Services Administration (GSA), and National Aeronautics and Space Administration (NASA).

ACTION: Request for information.

SUMMARY: DoD, GSA, and NASA in consultation with the Office of Federal Procurement Policy (OFPP) and the Office of Government Ethics (OGE), are seeking public comment on the question of whether additional guidance is necessary to address personal conflicts of interest by employees of Government contractors.

DATES: Interested parties should submit comments in writing to the Regulatory Secretariat at the address shown below on or before January 3, 2012.

ADDRESSES: Submit comments identified by “FAR PCI COMMENT” by any of the following methods:

• Regulations.gov: http://www.regulations.gov. Submit comments via the Federal eRulemaking portal by inputting “FAR PCI COMMENT” under the heading “Comment or Submission.” Select the link “Send a Comment or Submission” that corresponds with FAR PCI COMMENT. Follow the instructions provided to complete the “Public Comment and Submission Form.” Please include your name, company name (if any), and “FAR PCI COMMENT” on your attached document.

• Fax: (202) 501-4067.

• Mail: General Services Administration, Regulatory Secretariat Division (MVCB), ATTN: Hada Flowers, 1275 First Street, NE., Washington, DC 20417.

Instructions: Please submit comments only and cite “FAR PCI COMMENT” in all correspondence related to this case. All comments received will be posted, without change, to http://www.regulations.gov, including any personal and/or business confidential information provided.

FOR FURTHER INFORMATION CONTACT: Mr. Anthony Robinson, Procurement Analyst, at (202) 501-2658, for clarification of content. For information pertaining to status or publication schedules, contact the Regulatory Secretariat division at (202) 501-4755. Please cite FAR PCI COMMENT.

SUPPLEMENTARY INFORMATION: DoD, GSA, and NASA, in close consultation with OFPP and OGE, have issued a final rule to address personal conflicts of interest by contractor employees performing acquisition functions closely associated with inherently governmental functions for, or on behalf of, a Federal agency or department. See FAR Case 2008-025, Preventing Personal Conflicts of Interest by Contractor Employees Performing Acquisition Functions, published concurrently with this notice. The rule implements provisions in section 841(a) of the Duncan Hunter National Defense Authorization Act (NDAA) for Fiscal Year 2009 (Pub. L. 110-417).

Section 841(b) further requires that OFPP conduct a review of the Federal Acquisition Regulation to determine whether coverage of personal conflicts of interest should be expanded beyond contractors whose work supports acquisition functions closely associated with inherently governmental functions. DoD, GSA, and NASA, in consultation with OFPP and OGE, are working together to implement this requirement. As part of their review, they seek public comment on the issue of expanded coverage, taking into account the coverage provided by FAR Case 2008-025, and especially welcome public comment in response to the following questions:

(1) Are there contracting methods, types, and services (other than those covered by FAR Case 2008-025) that raise heightened concerns for potential personal conflicts of interest?

(2) Should regulatory coverage be expanded to address personal conflicts of interest by contractor employees with respect to functions other than those covered by FAR Case 2008-025? If so, what additional functions should be considered to ensure policies for the prevention and mitigation of personal conflicts of interest are sufficiently rigorous, comprehensive, and uniform?

Responses to this notice will be taken into consideration by DoD, GSA, and NASA, in consultation with OFPP and OGE, as they evaluate the need for additional guidance on personal conflicts of interest.

Dated: October 21, 2011.
Laura Auletta,
Acting Director, Office of Governmentwide Acquisition Policy, Office of Acquisition Policy, Office of Governmentwide Policy.

[FR Doc. 2011-27795 Filed 11-1-11; 8:45 a.m.]

BILLING CODE 6820-EP-P